FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 7, 2002.

A. Federal Reserve Bank of Atlanta (Sue Costello, Vice President) 1000 Peachtree Street, NE., Atlanta, Georgia 30309-4470:

1. Thomas D. Caldwell, III, Rome, Georgia; to acquire additional voting shares of Greater Rome Bancshares, Inc., Rome, Georgia, and thereby indirectly acquire additional voting shares of Great Rome Bank, Rome, Georgia.

2. Mark Kardonski, Fort Lauderdale, Florida, as trustee of the GNB Holding Trust, Miami, Florida; to acquire voting shares of Eagle National Holding Company, Miami, Florida, and thereby indirectly acquire voting shares of Eagle National Bank of Miami, Miami, Florida.

B. Federal Reserve Bank of Minneapolis (Julie Stackhouse, Vice President) 90 Hennepin Avenue, Minneapolis, Minnesota 55480-0291:

1. Kevin L. Johnson, North Oaks, Minnesota; to acquire voting shares of Johnson Holdings, Inc., Isanti, Minnesota, and thereby indirectly acquire voting shares of East Central Holding Company, Isanti, Minnesota, and Landmark Community Bank, N.A., Isanti, Minnesota.

Board of Governors of the Federal Reserve System, October 11, 2002.
Robert deV. Frierson,
Deputy Secretary of the Board.

[FR Doc. 02-26542 Filed 10-17-02; 8:45 am]

BILLING CODE 6210-01-P